DEPARTMENT OF HOMELAND SECURITY

Coast Guard

33 CFR Part 165

[Docket No. USCG-2008-0264]

RIN 1625-AA00

Safety Zone; Patchogue Bay, Patchogue, NY

AGENCY: Coast Guard, DHS.

ACTION: Final rule.

SUMMARY: The Coast Guard is establishing a safety zone for the Patchogue Grand Prix, a power boat race on Patchogue Bay off of Patchogue, New York. The safety zone provides for safety of navigation for the maritime public viewing and transiting near the power boat race. This safety zone is necessary to protect the maritime community from the hazards inherent with a power boat race, namely, a collision and loss of control of the power boats participating in this event. Entry into this zone is prohibited unless authorized by the Captain of the Port Long Island Sound.

DATES: This rule is effective on September 3, 2008.

ADDRESSES: Comments and material received from the public, as well as documents mentioned in this preamble as being available in the docket, are part of docket USCG-2008-0264 and are available online at http://www.regulations.gov. This material is also available for inspection or copying at two locations: The Docket Management Facility (M-30), U.S. Department of Transportation, West Building Ground Floor, Room W12-140, 1200 New Jersey Avenue, SE., Washington, DC 20590, between 9 a.m. and 5 p.m., Monday through Friday, except Federal holidays and at United States Coast Guard Sector Long Island Sound, 120 Woodward Avenue, New Haven, Connecticut, between 8 a.m. and 3 p.m., Monday through Friday, except Federal holidays.

FOR FURTHER INFORMATION CONTACT: If you have questions on this rule, call LT Douglas Miller, USCG Sector Long Island Sound Prevention Department at (203) 486-4459. If you have questions on viewing the docket, call Renee V. Wright, Program Manager, Docket Operations, telephone 202-366-9826.

SUPPLEMENTARY INFORMATION:

Submitting Comments

On June 12, 2008 we published a notice of proposed rulemaking (NPRM) entitled Safety Zone: Patchogue Bay, Patchogue, NY in the Federal Register (73 FR 114). We received no letters commenting on the proposed rule. No public meeting was requested, and none was held.

Under 5 U.S.C. 553(d)(3), the Coast Guard finds that good cause exists for making this rule effective less than 30 days after publication in the Federal Register. This rule is needed to ensure the safety of the maritime public in the area of the powerboat race. Delaying the effective date would be contrary to the public interest, since immediate action is necessary to ensure the public's safety. Furthermore, the NPRM for this rule was published on June 12, 2008 and no comments were received from the public. In addition to the NPRM notification, notification of the safety zone will be made through marine information broadcasts and local notice to mariners.

Background and Purpose

OPA Racing LLC of Brick, NJ is sponsoring an annual power boat race in Patchogue Bay, Patchogue, NY on the 22nd, 23rd and 24th of August 2008, and for a three day period on a recurring basis each year thereafter. A safety zone is necessary to protect the maritime community from the hazards associated with the power boat race. The safety zone will be enforced from 11 a.m. to 5 p.m on each day of the three day event to accommodate the practice sessions and the race.

Patchogue Bay is located on the south shore of Long Island, New York. The boat race consists of approximately 40 power boats performing at high rates of speed in close proximity to each other while operating over a specified race course in an area of Patchogue Bay, Patchogue, NY. The Coast Guard is establishing this safety zone in order to provide for the safety of the maritime community and the spectators viewing the power boats should an accident, such as a collision of the competing power boats, occur during the race.

Discussion of Rule

The safety zone will be enforced during the testing of the powerboats on August 22nd and 23rd, 2008 and during the day of the race, August 24, 2008. In future years, the safety zone will also be enforced for the two planned testing days and on the day of the race. Specific dates will be announced in the Federal Register. On the specified days, the safety zone will be enforced from 11 a.m. until 5 p.m. during the event and testing sessions. This time period will provide sufficient opportunity to clear the safety zone area prior to the testing session and the start of the race, as well as additional time should testing or the race run longer than the intended period. Coast Guard Sector Long Island Sound will cause notice of the enforcement of the safety zone to be made by all appropriate means to ensure the widest publicity among the affected segments of the public and will include publication in the local notice to mariners, marine information broadcasts, and facsimile. The safety zone will be established on the navigable waters of Patchogue Bay as bounded by the following geographic coordinates: Beginning at a point on land in Patchogue, NY at approximate position 40°44′56″ N, 073°00′49″ W, then running south to a point in Patchogue Bay at approximate position 40°44′29″ N, 073°00′49″ W; then running southeast to a point in Great South Bay at approximate position 40°43′47″ N, 072°59′54″ W; then running east to approximate position 40°43′53″ N, 072°58′46″ W; then to approximate position 40°43′57″ N, 072°57′06″ W, then north to a point on land at approximate position 40°44′29″ N, 072°57′09″ W. All coordinates are North American Datum 1983.

The Captain of the Port anticipates minimal negative impact on vessel traffic because of this safety zone due to the limited area covered by this safety zone and the short enforcement period. Any violation of the safety zone described herein would be punishable by, among others, civil and criminal penalties, in rem liability against the offending vessel, and license sanctions.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation is unnecessary. This regulation may have some impact on the public, but the potential impact will be minimized for the following reasons: The zone will only be enforced for a maximum of eight hours on three specific days, and vessels may transit in all areas around the zone at all times.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This rule may affect the following entities, some of which may be small entities: The owners or operators of vessels intending to transit or anchor in those portions of Patchogue Bay, Patchogue, New York and marinas located within Patchogue Bay covered by the safety zone that temporarily may not be able to receive customers. The economic impact on these small entities is not significant as vessels will be able to transit around the safety zone and in all other navigable portions of Patchogue Bay while the safety zone is being enforced and vessels desiring to transit to marinas located within the vicinity of the safety zone may request permission from the Captain of the Port to enter and transit the zone. No comments were received regarding the economic impact on small entities and the original assessment of impact on small entities was not changed in this rulemaking.

Assistance for Small Entities

Under section 213(a) of the Small Business Regulatory Enforcement Fairness Act of 1996 (Pub. L. 104-121), in the NPRM we offered to assist small entites in understanding this rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 5100.1 and Commandant Instruction M16475.lD, which guide the Coast Guard in complying with the National Environmental Policy Act of 1969 (NEPA) (42 U.S.C. 4321-4370f), and have concluded, under the Instruction, that there are no factors in this case that would limit the use of a categorical exclusion under section 2.B.2 of the Instruction. Therefore, this rule is categorically excluded, under figure 2-1, paragraph (34)(g), of the Instruction, from further environmental documentation. A final environmental analysis checklist and a final categorical exclusion determination are available in the docket where indicated under ADDRESSES.

List of Subjects in 33 CFR Part 165

Harbors, Marine safety, Navigation (water), Reporting and recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1226 and 1231; 46 U.S.C. Chapter 701, 3306, 3703; 50 U.S.C. 191; 33 CFR 1.05-1, 6.04-1, 6.04-6, and 160.5; Pub. L. 107-295, 116 Stat. 2064; Department of Homeland Security Delegation No. 0170.1.

2. Add § 165.158 to read as follows:

§ 165.158 Safety Zone: Patchogue Grand Prix, Patchogue Bay, Patchogue, NY.

(a) Location. The following area is a safety zone: All navigable waters of Patchogue Bay, NY bounded by an area beginning at a point on land in Patchogue, NY at approximate position 40°44′56″ N, 073°00′49″ W; then running south to a point in Patchogue Bay at approximate position 40°44′29″ N, 073°00′49″ W; then running south east to a point in Great South Bay at approximate position 40°43′47″ N, 072°59′54″ W; then running east to approximate position 40°43′53″ N, 072°58′46″ W; then to approximate position 40°43′57″ N, 072°57′06″ W; then north to a point on land at approximate position 40°44′29″ N, 072°57′09″ W. All coordinates are North American Datum 1983.

(b) Definitions. The following definitions apply to this section: Designated on-scene patrol personnel, means any commissioned, warrant and petty officers of the U.S. Coast Guard operating Coast Guard vessels who has been authorized to act on the behalf of the Captain of the Port Long Island Sound.

(c) Regulations. (1) The general regulations contained in 33 CFR § 165.23 apply.

(2) In accordance with the general regulations in § 165.23 of this part, entry into or movement within this zone is prohibited unless authorized by the Captain of the Port Long Island Sound.

(3) All persons and vessels must comply with the Coast Guard Captain of the Port or the designated on-scene patrol personnel.

(4) Upon being hailed by a U.S. Coast Guard vessel by siren, radio, flashing light or other means, the operator of the vessel must proceed as directed.

(5) Persons and vessels may request permission to enter the zone on VHF-16 or via phone at (203) 468-4401.

(d) Enforcement Period. This rule will be enforced from 11 a.m. to 5 p.m. on August 22, 23, and 24, 2008 and each year thereafter at dates and times specified in a Federal Register notice.

Dated: August 7, 2008.
Daniel A. Ronan,
Captain, U.S. Coast Guard, Captain of the Port Long Island Sound.

[FR Doc. E8-20360 Filed 9-2-08; 8:45 am]

BILLING CODE 4910-15-P